DEPARTMENT OF DEFENSE

Corps of Engineers, Department of the Army

Intent To Prepare a Draft Environmental Impact Statement (DEIS) for the Eastern Arkansas Region Comprehensive Study, Bayou Meto Basin, AR, General Reevaluation

AGENCY: U.S. Army Corps of Engineers, Department of Defense

ACTION: Notice of intent.

SUMMARY: The purpose of this general reevaluation is to develop a plan that provides flood control, agricultural water supply, groundwater protection and conservation, waterfowl management, and environmental enhancement and restoration. The Grand Prairie Region and Bayou Meto Basin, Arkansas, flood-control project was authorized by the Flood Control Act of 1950 and deauthorized by the Water Resources Development Act (WRDA) of 1986. This project was reauthorized by the WRDA of 1996 with an expanded scope that includes groundwater protection and conservation, agricultural water supply, and waterfowl management. Language in the Fiscal Year 1998 Appropriations Act directed the U.S. Army Corps of Engineers to initiate a reevaluation of the Bayou Meto Basin from within available funds. The appropriations acts for fiscal year 1999 and 2000 provided funding to continue to reevaluation.

FOR FURTHER INFORMATION CONTACT: Mr. Ken Bright, telephone (901) 544-0745, CEMVM-PM, 167 North Main Street, Room B-202, Memphis, TN 38103-1894. Questions regarding the DEIS may be directed to Mr. Edward Lambert, telephone (901) 544-0707, CEMVM-PM-E.

SUPPLEMENTARY INFORMATION:

1. Proposed Action

The Eastern Arkansas Region Comprehensive Study, completed in 1990, indicated that a feasible plan of improvement for agricultural water supply and conservation exists for the Bayou Meto Basin, Arkansas. The Bayou Meto Basin Project general reevaluation will focus on developing a plan of improvement that will meet the flood control and water supply needs of the project area while providing substantial net environmental benefits. Preliminary studies indicate the a combination of measures of needed to meet the water supply needs of the project area. Identified water-supply components are (1) water conservation (increased irrigation efficiencies), (2) groundwater protection and conservation, (3) additional on-farm storage, and (4) a system to import surface water from the Arkansas River. Irrigation and flood-control features will be designed to avoid or minimize adverse environmental impacts; alternative plan designs will include recommendations from state and Federal natural resource agencies. Moreover, a major emphasis will be placed on the formulation of environmental project features. Measures to create and/or restore fish and wildfish habitat (including waterfowl habitat), improve water quality, and protect existing surface water and groundwater resources will be integral components of all alternative plans. The project area encompasses 779,109 acres between the Arkansas and White rivers in east central Arkansas; it includes portions of Arkansas, Jefferson, Lonoke, and Prairie counties.

2. Alternatives

Alternatives will be developed that provide flood control, agricultural water supply, groundwater conservation and protection, waterfowl management, and environmental enhancement and restoration. Comparisons will be made among alternative plans, and alternative plans will be compared to the “no action” alternative.

3. Scoping Process

An intensive public involvement program has been initiated and will be maintained throughout the study to (1) solicit input from individuals and interested parties so that problems, needs, and opportunities within the project area can be properly identified and addressed and (2) provide status updates to concerned organizations and the general public. Affected Federal, state, and local agencies; affected Indian tribes; and other interested private organizations and parties are encouraged to participate in the scoping process. Significant issues to be analyzed include potential impacts (negative and positive) to groundwater and surface water resources, fisheries, water quality, wetlands, wildlife, endangered species, cultural resources, and agricultural lands. Two public scoping meetings will be held within the project area. The first scoping meeting will be held on February 15, 2000, 5:30 p.m., at the England Elementary School, 400 East DeWitt, England, Arkansas. The second meeting is scheduled for February 16, 2000, 5:30 p.m., at the Lonoke Primary School, 800 Lincoln Street, Lonoke, Arkansas. It is anticipated that the DEIS will be available for public review during the fall of 2002. A public meeting will be held during the review period to receive comments and address questions concerning the DEIS.

Dated: January 26, 2000.
Daniel W. Krueger,
Colonel, Corps of Engineers, District Engineer.

[FR Doc. 00-2545 Filed 2-3-00; 8:45 am]

BILLING CODE 3710-KS-M